SECURITIES AND EXCHANGE COMMISSION

[File No. 500-1]

Carlyle Gaming & Entertainment Ltd., Daleigh Holdings Corp., Guy F. Atkinson Co. of California, Inc. (n/k/a ATKN Co. of California), Minex Resources, Inc., Pegasus Gold, Inc., Powerhouse Resources, Inc., SA Telecommunications, Inc., Storm Technology, Inc., Thorn Apple Valley, Inc., and Universal Seismic Associates, Inc. (n/k/a Pocketop Corp.); Order of Suspension of Trading

February 12, 2009.

It appears to the Securities and Exchange Commission that there is a lack of current and accurate information concerning the securities of Carlyle Gaming & Entertainment Ltd. because it has not filed any periodic reports since the period ended March 31, 1996.

It appears to the Securities and Exchange Commission that there is a lack of current and accurate information concerning the securities of Daleigh Holdings Corp. because it has not filed any periodic reports since the period ended September 30, 1996.

It appears to the Securities and Exchange Commission that there is a lack of current and accurate information concerning the securities of Guy F. Atkinson Co. of California, Inc. (n/k/a ATKN Company of California) because it has not filed any periodic reports since the period ended December 31, 1997.

It appears to the Securities and Exchange Commission that there is a lack of current and accurate information concerning the securities of Minex Resources, Inc. because it has not filed any periodic reports since the period ended November 30, 1999.

It appears to the Securities and Exchange Commission that there is a lack of current and accurate information concerning the securities of Pegasus Gold, Inc. because it has not filed any periodic reports since the period ended June 30, 1998.

It appears to the Securities and Exchange Commission that there is a lack of current and accurate information concerning the securities of Powerhouse Resources, Inc. because it has not filed any periodic reports since the period ended June 30, 1995.

It appears to the Securities and Exchange Commission that there is a lack of current and accurate information concerning the securities of SA Telecommunications, Inc. because it has not filed any periodic reports since the period ended December 31, 1997.

It appears to the Securities and Exchange Commission that there is a lack of current and accurate information concerning the securities of Storm Technology, Inc. because it has not filed any periodic reports since the period ended June 30, 1998.

It appears to the Securities and Exchange Commission that there is a lack of current and accurate information concerning the securities of Thorn Apple Valley, Inc. because it has not filed any periodic reports since the period ended March 5, 1999.

It appears to the Securities and Exchange Commission that there is a lack of current and accurate information concerning the securities of Universal Seismic Associates, Inc. (n/k/a Pocketop Corp.) because it has not filed any periodic reports since the period ended March 31, 1998.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 12, 2009, through 11:59 p.m. EST on February 26, 2009.

By the Commission.
Jill M. Peterson,
Assistant Secretary.

[FR Doc. E9-3377 Filed 2-12-09; 4:15 pm]

BILLING CODE 8011-01-P